FEDERAL COMMUNICATIONS COMMISSION

[OMB 3060-XXXX; FRS 17441]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before April 26, 2021. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-XXXX.

Title: FCC Authorization for Radio Service Authorization; Wireless Telecommunications Bureau; Public Safety and Homeland Security Bureau, FCC Form 601-2.0.

Form Number: FCC Form 601-2.0.

Type of Review: New collection.

Respondents: Individual and households, Business or other for-profit entities, state, local, or tribal government, and not for profit institutions.

Number of Respondents: 24 respondents; 176 responses.

Estimated Time per Response: 0.5 hours.

Frequency of Response: Recordkeeping requirement; third party disclosure requirement, on occasion reporting requirement and periodic reporting requirement.

Obligation to Respond: Required to obtain or retain benefits. Statutory authority for these collections are contained in 47 U.S.C. 151, 152, 155(c), 158, 201, 202, 208, 214, 301, 302a, 303, 307, 308, 309, 310, 311, 314, 316, 319, 324, 332, and 333 of the Communications Act of 1934.

Total Annual Burden: 88 hours.

Total Annual Cost: $18,150.

Privacy Impact Assessment: Yes.

Nature and Extent of Confidentiality: In general, there is no need for confidentiality with this collection of information.

Needs and Uses: The Commission is submitting a request to the Office of Budget and Management (OMB) for approval of the FCC Form 601-2.0, a new data collection that will gradually replace the FCC Form 601 ((3060-0798). The Commission is implementing a new electronic licensing system called Universal Licensing System 2.0 (ULS 2.0) to replace the current Universal Licensing System (ULS). Services will gradually be moved to the new ULS 2.0, beginning with market-based Special Temporary Authority (STA) applications. The burden hours and costs associated with market-based STAs will now be a part of the ULS 2.0 system and FCC Form 601-2.0. The FCC Form 601-2.0 will be a consolidated electronic data collection for market-based and site-based licensing for wireless telecommunications services, including public safety, which will be filed through the Commission's modernized Universal Licensing System 2.0 (ULS-2.0). This form will gradually replace the FCC Form 601 (3060-0798) as services are moved from legacy ULS to ULS 2.0. The substance of and wording of the FCC Form 601 data collection will remain the same in the new system. The data collected in ULS 2.0 consists of administrative, technical, and other information needed for licensing if wireless radio services. Once fully implemented, this system will be used to submit all Wireless Services applications along with any supporting documentation. The application purposes include: Applying for a new license (including STA's) modifying or renewing an existing license, cancelling a license, submitting required notifications, requesting an extension of time to satisfy construction requirements, and requesting an administrative update to an existing license (such as mailing address change). Applicants can also amend or withdraw applications while they are pending in ULS.2.0. The data collected in ULS 2.0 includes the FCC Registration Number (FRN), which serves as a “common link” for all filings an entity has with the FCC. The Debt Collection Improvement Act of 1996 requires entities filing with the Commission to use an FRN. ULS 2.0 data records may include information about individuals or households, e.g., personally identifiable information or PII, and the use(s) and disclosure of this information are governed by the requirements of a system of records notice or “SORN”, FCC/WTB-1, “Wireless Services Licensing Records.” There are no additional impacts under the Privacy Act.

Federal Communications Commission.
Marlene Dortch,
Secretary, Office of the Secretary.

[FR Doc. 2021-03538 Filed 2-22-21; 8:45 am]

BILLING CODE 6712-01-P